DEPARTMENT OF COMMERCE

International Trade Administration

19 CFR Part 360

[Docket No.: 0809261282-9117-02]

RIN 0625-AA82

Steel Import Monitoring and Analysis System

AGENCY: Import Administration, International Trade Administration, Department of Commerce.

ACTION: Final rule.

SUMMARY: The Department of Commerce (the Department) publishes this action to make final a rule to extend the Steel Import Monitoring and Analysis (SIMA) system until March 21, 2013. The purpose of the SIMA system is to provide statistical data on steel imports entering the United States seven weeks earlier than it would otherwise be available to the public. Aggregate data collected from the licenses are made available to the public on a weekly basis following review by the Department.

DATES: This final rule is effective March 18, 2009.

FOR FURTHER INFORMATION CONTACT: For information about the SIMA system, please contact Kelly Parkhill (202) 482-3791 or Julie Al-Saadawi (202) 482-1930.

SUPPLEMENTARY INFORMATION:

Background

The SIMA system has been operating under its current authority since March 21, 2005. Prior to this date, authority for steel import licensing and monitoring was derived from the Proclamation 7529 of March 5, 2002, which placed temporary tariffs on many steel imports and provided the steel industry time to restructure. The monitoring system outlined in Proclamation 7529 required all importers of steel products to obtain a license from the Department prior to completing their Customs entry summary documentation. This provided a monitoring tool to ensure that the effectiveness of the safeguard was not undermined by large quantities of imports originating from countries that were excluded from the tariffs.

In Proclamation 7741 of December 4, 2003 (68 FR 68483), the President terminated the steel safeguard measures, but directed the Secretary of Commerce to continue the monitoring system until the earlier of March 21, 2005, or such time as the Secretary of Commerce established a replacement program. On December 9, 2003, the Department published a notice stating that the system would continue in effect as described in Proclamation 7741 until March 21, 2005 (68 FR 68594). On August 25, 2004, the Department published an advanced notice of proposed rulemaking soliciting comments from the public on whether to continue the monitoring system beyond March 21, 2005 (69 FR 52211). On March 11, 2005, the Department published an interim final rule responding to the comments received from the public and implementing a slightly expanded version of SIMA until March 21, 2009. That interim final was followed by the publication of the final rule on December 5, 2005 (70 FR 72373).

On December 12, 2008, a proposed rule was published in the Federal Register (73 FR 75624) seeking an extension of the SIMA system through March 21, 2013 and asking for comments from the public. The Department received twelve comments all supportive of the extension.

The Department issues this final rule to extend the application of the SIMA system until March 21, 2013. No other changes are made to the regulations for the SIMA system. The purpose of the SIMA system is to provide steel producers, steel consumers, importers, and the general public with accurate and timely information on anticipated imports of certain steel products. Import licenses, obtained through the internet-based SIMA licensing system, are required on U.S. imports of basic steel mill products. Aggregate import data obtained from the licenses is updated weekly and posted on the SIMA Web site monitor. Details of the current system can be found on http://ia.ita.doc.gov/steel/license.

Response to Comments

Submissions received during the public comment period established in the proposed rule have been considered in preparing this final rule. Twelve submissions were received from individual steel producers, various industry and distributor trade groups, and the United Steelworkers. All of the comments received were supportive of the four-year extension and agreed that the system is a critical tool that helps the industry to closely monitor steel imports. The comments are summarized below. The twelve comments received are posted on the Federal rulemaking portal at www.Regulations.gov and they are also posted on the SIMA Web site at http://ia.ita.doc.gov/steel/license.

Comment 1: Commenters strongly support the extension of the SIMA system for an additional four years. They stated that given the volatility of world steel markets, the SIMA system gives the public access to the timeliest information possible regarding import patterns and changes. They also see it as an important and transparent tool to support rational decision-making by all interested parties—steel producers, steel users, importers and U.S. government officials.

Response: The Department agrees that the SIMA system provides the public valuable timely information on steel imports. It also agrees that the posting of aggregate import volume and pricing data drawn from the licenses on a public website provides all interested stakeholders with a better understanding of changing market conditions in a transparent fashion.

Comment 2: Commenters stated that there is no significant burden on the steel importing community to comply with the licensing requirements of the SIMA system and that this has been confirmed over the last four years in its current format, which remains unchanged by the proposed rule.

Response: The Department agrees with the comments that there is no significant burden on steel importers arising out of SIMA system licensing requirements. The web-based licensing system is automatic and free of charge. The Department estimates that it continues to take no longer than ten minutes to completely fill out the automated license form and for most applicants the time expended is much less.

Comment 3: Commenters suggest that the Department make the SIMA system permanent rather than extend it for another four years. They state that the system has proven its effectiveness as an important analytical tool for both steel producers and consumers.

Response: Broad authority to collect information on imports is granted to the Secretary of Commerce and delegated to the Director of the Bureau of the Census. When the original safeguard authority for the SIMA system granted by the President expired in March 2005, the system was continued pursuant to this Department of Commerce information collection authority (13 U.S.C. 301(a) and 302). For purposes of administering the SIMA system, this authority was temporarily transferred from the Director of the Census Bureau to the Under Secretary for International Trade for four years. One of the conditions of the temporary transfer of authority to the Under Secretary for International Trade was that any future periodic extensions of the SIMA system be notified to the Secretary and subject to review. Therefore, establishment of a permanent system is not possible under current authority.

Comment 4: Commenters suggested that the Department add metal forming products to the downstream monitor to the extent they can be defined by HTSUS codes.

Response: The Department intends to add these products to the downstream monitor using publicly available data.

For the reasons discussed above, the proposed rule (19 CFR part 360) is made final without changes.

Classification

Executive Order 12866

This rule has been determined to be significant for purposes of Executive Order 12866.

Executive Order 13132

This rule does not contain policies with federalism implications as that term is defined in Executive Order 13132.

Administrative Procedure Act

The Department finds good cause under 5 U.S.C. 553(b)(B) to waive the 30-day delay in effectiveness. The Department issues this final rule to extend the requirement for import licenses through the Internet-based SIMA licensing system on U.S. imports of basic steel mill products of the SIMA system until March 21, 2013. The purpose of the SIMA system is to provide steel producers, steel consumers, importers, and the general public with accurate and timely information on anticipated imports of certain steel products. This final rule would extend the requirement for such licenses from March 21, 2009 until March 21, 2013. It is necessary to waive the 30-day delay in effectiveness to ensure that the regulations requiring importers to obtain an import license from the SIMA system do not terminate, thereby ensuring the collection of timely and complete data on imports of covered items, and possibly preventing confusion or delay of imports at entry summary. If the Department were to allow for the 30-day delay in effectiveness, there would be a lapse in the requirement for an import license. As a result, importers may be confused about the need for a license and delay their filing of summary documents while trying to obtain one which could lead to possible fines and penalties. In addition, without current information from the licenses, the monitor would fall out of date and the public would be without the quality information they have come to depend upon. Therefore, to ensure the collection of timely and complete data, and to prevent any confusion and delay associated with a lapse in the license requirements for SIMA, the Department finds good cause to waive the 30-day delay in effectiveness, and to make these regulations effective upon publication.

Regulatory Flexibility Act

The Chief Counsel for Regulation of the Department of Commerce certified to the Chief Counsel for Advocacy of the Small Business Administration that the proposed rule, if adopted, would not have a significant economic impact on a substantial number of small entities as that term is defined in the Regulatory Flexibility Act, 5 U.S.C. 601 et seq. The factual basis is found in the proposed rule and is not repeated here. No comments were received on the certification or the economic impacts of this action. As a result, no final regulatory flexibility analysis was prepared.

Paperwork Reduction Act

This final rule contains collection-of-information requirements subject to review and approval by the Office of Management and Budget (OMB) under the Paperwork Reduction Act (PRA). These requirements have been approved by OMB (OMB No. 0625-0245; Expiration Date: 09/30/2011). Public reporting for this collection of information is estimated to be less than ten minutes per response, including the time for reviewing instructions and completing and reviewing the collection of information. All responses to this collection of information are voluntary, and will be provided confidentially to the extent allowed by law.

Notwithstanding any other provision of law, no person is required to respond to, nor shall any person be subject to a penalty for failure to comply with a collection of information subject to the Paperwork Reduction Act unless that collection displays a currently valid OMB Control Number.

List of Subjects in 19 CFR Part 360

Administrative practice and procedure, Business and industry, Imports, Reporting and recordkeeping requirements, Steel.

Dated: March 13, 2009.
Michelle O'Neill,
Acting Under Secretary for International Trade.

For reasons discussed in the preamble, 19 CFR part 360 is amended to read as follows:

PART 360—STEEL IMPORT MONITORING AND ANALYSIS SYSTEM

1. The authority citation for part 360 continues to read as follows:

Authority: 13 U.S.C. 301(a) and 302.

2. Section 360.105 is revised to read as follows:

§ 360.105 Duration of the steel import licensing requirement.

The licensing program will be in effect through March 21, 2013, but may be extended upon review and notification in the Federal Register prior to this expiration date. Licenses will be required on all subject imports entered during this period, even if the entry summary documents are not filed until after the expiration of this program. The licenses will be valid for 10 business days after the expiration of this program to allow for the final filing of required Customs documentation.

[FR Doc. E9-6013 Filed 3-16-09; 4:15 pm]

BILLING CODE 3510-DS-P